UNITED STATES INSTITUTE OF PEACE

Notice of Meeting

Agency: United States Institute of Peace.

Date/Time: Friday, July 21, 2017 (10:00 a.m.-1:00 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: July 21, 2017 Board Meeting: Chairman's Report; Vice Chairman's Report; President's Report; Approval of Minutes of the One Hundred and Sixty Second Meeting (April 21, 2017) of the Board of Directors; Reports from USIP Board Committees; China Program Report; and USIP Global Campus Report.

Contact: Nick Rogacki, Special Assistant to the President, Email: nrogacki@usip.org.

Dated: July 6, 2017.
Nicholas Rogacki,
Special Assistant to the President.

[FR Doc. 2017-14544 Filed 7-11-17; 8:45 am]

BILLING CODE 6820-AR-P